GENERAL SERVICES ADMINISTRATION

48 CFR Parts 542 and 552

[GSAR Case 2008-G512; Docket 2008-0007; Sequence 8]

RIN 3090-AI59

General Services Acquisition Regulation; GSAR Case 2008-G512; Rewrite of GSAR Part 542; Contract Administration and Audit Services

AGENCY: Office of the Chief Acquisition Officer, General Services Administration (GSA).

ACTION: Proposed rule.

SUMMARY: The General Services Administration (GSA) is proposing to amend the General Services Acquisition Regulation (GSAR) to revise language pertaining to requirements for contract administration and audit services.

DATES: Interested parties should submit written comments to the Regulatory Secretariat on or before August 25, 2008 to be considered in the formulation of a final rule.

ADDRESSES: Submit comments identified by GSAR Case 2008-G512 by any of the following methods:

• Regulations.gov: http://www.regulations.gov. Submit comments via the Federal eRulemaking portal by inputting “GSAR Case 2008-G512” under the heading “Comment or Submission”. Select the link “Send a Comment or Submission” that corresponds with GSAR Case 2008-G512. Follow the instructions provided to complete the “Public Comment and Submission Form”. Please include your name, company name (if any), and “GSAR Case 2008-G512” on your attached document.

• Fax: 202-501-4067.

• Mail: General Services Administration, Regulatory Secretariat (VPR), 1800 F Street, NW, Room 4041, ATTN: Laurieann Duarte, Washington, DC 20405.

Instructions: Please submit comments only and cite GSAR Case 2008-G512 in all correspondence related to this case. All comments received will be posted without change to http://www.regulations.gov, including any personal and/or business confidential information provided.

FOR FURTHER INFORMATION CONTACT: For clarification of content, contact Ms. Jeritta Parnell at (202) 501-4082, or by e-mail at Jeritta.Parnell@gsa.gov. For information pertaining to the status or publication schedules, contact the Regulatory Secretariat (VPR), Room 4041, GS Building, Washington, DC 20405, (202) 501-4755. Please cite GSAR Case 2008-G512.

SUPPLEMENTARY INFORMATION:

A. Background

The General Services Administration (GSA) is amending the General Services Administration Acquisition Regulation (GSAR) to update the text addressing GSAR 542.1107, Production Surveillance and Reporting, Subpart 542.15, Contractor Performance Information, and the GSAR clause at 552.242-70, Status Report of Orders and Shipments. This proposed rule is a result of the General Services Administration Acquisition Manual (GSAM) rewrite initiative. The initiative was undertaken by GSA to revise the GSAM so as to maintain consistency with the FAR and implement streamlined and innovative acquisition procedures that contractors, offerors, and GSA contracting personnel can use when entering into and administering contractual relationships. The GSAM incorporates the General Services Administration Acquisition Regulation (GSAR) as well as internal agency acquisition policy.

GSA will rewrite each part of the GSAR and GSAM, and as each GSAR part is rewritten, GSA will publish it in the Federal Register.

This proposed rule covers the rewrite of GSAR Part 542. The proposed rule revises GSAM Part 542 to update the text addressing GSAR Subpart 542.1107, Production Surveillance and Reporting, Subpart 542.15, Contractor Performance Information, and the GSAR clause at 552.242-70, Status Report of Orders and Shipments. The language in the contract clause at 542.1107, is revised to add emphasis to the contracting officer’s responsibilities. The GSAR clause at 552.242-70, Status Report of Orders and Shipments, is revised to update information about the cited GSA office. The language in GSAR Subpart 542.15, Contractor Performance Information, is reorganized and removed from inclusion in the GSAR. This is guidance to contracting officers, and not requirements for contractors.

Discussion of Comments

There were two public comments received in response to the Advanced Notice of Proposed Rulemaking. One commenter requested that specific GSA guidelines be applied to the timeframe for novation and name changes by the contracting officer. The Agency did not agree. This suggestion is not necessary. The Agency believes that the FAR coverage is detailed enough to cover all aspects of novation and name changes. The language provided in the GSAM is guidance for contracting officers, and not requirements for contractors. The second commenter stated that the FAR is substantially more specific than the GSAM. The Agency agrees. The GSAM only supplements the FAR.

This is not a significant regulatory action and, therefore, was not subject to review under Section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because the revisions are not considered substantive. The revisions only update and reorganize existing coverage. An Initial Regulatory Flexibility Analysis has, therefore, not been performed. We invite comments from small businesses and other interested parties. GSA will consider comments from small entities concerning the affected GSAR Parts 542 and 552 in accordance with 5 U.S.C. 610. Interested parties must submit such comments separately and should cite 5 U.S.C. 601, et seq. (GSAR case 2008-G512), in correspondence.

C. Paperwork Reduction Act

The Paperwork Reduction Act (Pub. L. 104-13) applies because the proposed rule contains information collection requirements. However, the proposed changes to the GSAR do not impose additional information collection requirements that require the approval of the Office of Management and Budget under 44 U.S.C. 3501, et seq. to the paperwork burden previously approved under OMB Control Number 3090-0027.

List of Subjects in 48 CFR Parts 542 and 552

Government procurement.

Dated: June 18, 2008.
Al Matera,
Director, Office of Acquisition Policy.

Therefore, GSA proposes to amend 48 CFR parts 542 and 552 as set forth below:

1. The authority citation for 48 CFR parts 542 and 552 revised to read as follows:

Authority: 40 U.S.C. 121(c).

PART 542—CONTRACT ADMINISTRATION AND AUDIT SERVICES

2. Revise section 542.1107 to read as follows:

542.1107 Contract clause.

The contracting officer shall insert 552.242-70, Status Report of Orders and Shipments, in solicitations and indefinite quantity and requirements contracts for Stock or Special Order Program items. The clause may be used in indefinite delivery definite quantity contracts for Stock or Special Order Program items when close monitoring is necessary because numerous shipments are involved.

542.1503-71 [Removed]

3. Remove section 542.1503-71.

PART 552—SOLICITATION PROVISIONS AND CONTRACT CLAUSES

4. Amend section 552.242-70 by—

a. Revising the date of the clause;

b. Removing from paragraph (a) “FQC” and adding “QVOC” in its place, respectively; and

c. Revising paragraph (b).

The revised text reads as follows:

552.242-70 Status Report of Orders and Shipments.

STATUS REPORT OF ORDERS AND SHIPMENTS (DATE)

(b) A copy of GSA Form 1678 will be forwarded to the Contractor with the contract. Additional copies of the form, if needed, may be reproduced by the Contractor.

(End of clause)

[FR Doc. E8-14224 Filed 6-23-08; 8:45 am]

BILLING CODE 6820-61-S